DEPARTMENT OF THE INTERIOR

Bureau of Land Management

[UT-020-02-2640-HO-UTZA]

Notice of Temporary Closure of the Manning Canyon Area

AGENCY: Department of the Interior, Bureau of Land Management.

ACTION: Notice of temporary closure of the Manning Canyon Area.

SUMMARY: Notice is hereby given that all access by the public to the roads and surrounding public lands in Manning Canyon, Utah County, will be temporarily closed to the general public beginning October 1, 2002 and continuing through October 1, 2006. The public lands, which total approximately 4,110 total acres, that are affected by this closure are as follows:

Manning Canyon Hazardous Material Cleanup Site

T. 6.S., R. 3 W., SLM,

Section 13, W½,

Section 14, all,

Section 15, all,

Section 22, E½, all public lands east of and including the north-south road,

Section 23, all,

Section 24, S½NE¼, W½,

Section 25, W½, SE¼, those lands which BLM holds interest in pursuant to Manning Canyon remediation contract,

Section 26, all public lands east of the West Manning Canyon Road,

Section 27, NE¼NE¼NE¼, north of the West Manning Canyon Road,

Section 36, N½NW¼ north and east of the West Manning Canyon Road and north of the old railroad grade.

FOR FURTHER INFORMATION CONTACT: Tim Ingwell, BLM Hazardous Material Specialist, Salt Lake Field Office, Bureau of Land Management, 2370 South 2300 West, Salt Lake City, Utah, 84119; (801)-977-4300, or email at Tim_Ingwell@blm.gov.

SUPPLEMENTARY INFORMATION: This closure to public access and use will serve to protect the safety and health of individuals and groups visiting and utilizing the network of Off-Highway Vehicle (OHV) trails, visiting, hiking, hunting, and camping within the Fivemile Pass OHV area during the cleanup of the hazardous material in Manning Canyon. The hazardous materials consist of numerous mine tailings piles that contain large concentrations of heavy metals, such as lead and arsenic, and exceed the recommended parts per million concentrations. These tailings are also a potential threat to ground water contamination to water sources used by local residents. A map depicting the closure area is available for public inspection at the Bureau of Land Management, Salt Lake Field Office.

The authority for establishing this restriction is found at 43 CFR 8364.1(a). This restriction does not apply to:

(1) Any federal, state or local government officer or member of an organized rescue or fire fighting force while in the performance of an official duty.

(2) Any Bureau of Land Management employee, agent, contractor, or cooperator while in the performance of an official duty.

(3) Any federal, state, local, or contract law enforcement officer, while in the performance of their official duties, or while enforcing this closure notice.

Violation of this closure is punishable by a fine not to exceed $100,000 and/or imprisonment not to exceed 12 months as provided in 43 CFR 8360-0.7 as further defined in 18 U.S.C. 3571.

Dated: September 25, 2002.
Glenn A. Carpenter,
Field Office Manager.

[FR Doc. 02-27477 Filed 10-28-02; 8:45 am]

BILLING CODE 4310-$$-P